DEPARTMENT OF COMMERCE

National Oceanic and Atmospheric Administration

Federal Geospatial Summit To Provide Information on Upcoming Improvements To the National Spatial Reference System (NSRS), Including the Replacement of the North American Datum of 1983 (NAD 83) and the North American Vertical Datum of 1988 (NAVD 88)

AGENCY: National Geodetic Survey (NGS), National Ocean Service (NOS), National Oceanic and Atmospheric Administration (NOAA), Commerce.

ACTION: Public meeting.

SUMMARY: The National Geodetic Survey (NGS) will host a Federal Geospatial Summit to discuss the impact updating the National Spatial Reference System (NSRS) will have on federal government agencies by replacing the North American Datum of 1983 (NAD 83), the North American Vertical Datum of 1988 (NAVD 88), and other state and territorial island vertical datums. The proposed changes will affect the surveying, mapping, charting, and Geographic Information System (GIS) programs of federal government agencies, as well as those tribal, state, county, and municipal governments that have adopted the NSRS.

DATES: The public meeting will be held Tuesday, May 11 and Wednesday, May 12, 2010 from 8:30 a.m. to 5 p.m.

ADDRESSES: The meeting location is the National Oceanic and Atmospheric Administration's (NOAA) Science Center and Auditorium, located at 1301 East-West Highway, Silver Spring, Maryland 20910.

FOR FURTHER INFORMATION CONTACT: Requests for additional information should be directed to Christine Gallagher, Program Analyst, National Geodetic Survey (N/NGS1), 1315 East-West Highway, Silver Spring, MD 20910; Phone: (301) 713-3231 x 105; E-mail: christine.gallagher@noaa.gov.

SUPPLEMENTARY INFORMATION:

Abstract

In January 2008, NGS adopted a 10-year plan identifying the need to change the geometric and vertical geodetic datums of the United States to improve the efficient use of the NAVSTAR Global Positioning System (GPS). Continuing technological developments and enhancements in space-based positioning, navigation, and timing systems by the United States, as well as in other international programs, including the Chinese global satellite navigation system COMPASS, the European Union's satellite navigation system GALILEO, and the Russian GLONASS (Global'naya Navigatsionnaya Sputnikovaya Sistema), will have a profound impact on the integration of Global Navigation Satellite System (GNSS) technologies with Federal surveying, mapping, charting, and GIS programs. In an effort to support these rapid changes in positioning technologies, NGS has adopted a plan to replace NAD 83 and NAVD 88, as well as other state and territorial island datums, with more contemporary geodetic reference systems, thereby reducing several significant impediments to the efficient use of these positioning and navigation systems. This meeting will serve as a forum to allow Federal geospatial program managers, technical specialists, and contractors to address the impacts of the planned changes, offer an opportunity to discuss these changes, and explain how NGS may provide training and technical assistance to ensure minimal technical and budgetary impacts resulting from these new systems.

Dated: March 19, 2010.
Juliana P. Blackwell,
Director, Office of National Geodetic Survey, National Ocean Service, National Oceanic and Atmospheric Administration.

[FR Doc. 2010-7080 Filed 4-1-10; 8:45 am]

BILLING CODE 3510-JE-M